DEPARTMENT OF THE INTERIOR

National Park Service

[NPS-WASO-NAGPRA-17028; PPWOCRADN0-PCU00RP14.R50000]

Notice of Inventory Completion: The Museum of Anthropology at Washington State University, Pullman, WA

AGENCY: National Park Service, Interior.

ACTION: Notice.

SUMMARY: The Museum of Anthropology at Washington State University has completed an inventory of human remains and associated funerary objects in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to the Museum of Anthropology at Washington State University. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the Museum of Anthropology at Washington State University at the address in this notice by December 17, 2014.

ADDRESSES: Mary Collins, Museum of Anthropology at Washington State University, Pullman, WA 99164-4910, telephone (509) 335-4314.

SUPPLEMENTARY INFORMATION: Notice is here given in accordance with the Native American Graves Protection and Repatriation Act (NAGPRA), 25 U.S.C. 3003, of the completion of an inventory of human remains and associated funerary objects under the control of the Museum of Anthropology at Washington State University, Pullman, WA. The human remains and associated funerary objects were removed from either the Klamath Lake area of Oregon or Western Montana.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Museum of Anthropology at Washington State University professional staff. This information was provided to representatives of the Blackfeet Tribe of the Blackfeet Indian Reservation of Montana; Coeur D'Alene Tribe (previously listed as the Coeur D'Alene Tribe of the Coeur D'Alene Reservation, Idaho); Confederated Salish and Kootenai Tribes of the Flathead Reservation; Confederated Tribes of Siletz Indians of Oregon (previously listed as the Confederated Tribes of the Siletz Reservation); Confederated Tribes of the Grand Ronde Community of Oregon; Fort Belknap Indian Community of the Fort Belknap Reservation of Montana; Kalispel Indian Community of the Kalispel Reservation; Karuk Tribe (previously Karuk Tribe of California); Klamath Tribes; Nez Perce Tribe (previously listed as the Nez Perce Tribe of Idaho); Pit River Tribe, California (includes XL Ranch, Big Bend, Likely, Lookout, Montgomery Creek and Roaring Creek Rancherias); Quartz Valley Indian Community of the Quartz Valley Reservation of California; Shoshone Tribe of the Wind River Reservation, Wyoming; and the Shoshone-Bannock Tribes of the Fort Hall Reservation.

History and Description of the Remains

In 1986, human remains representing, at minimum, two individuals, were delivered to the offices of the U.S. Army Corps of Engineers, Walla Walla District, by an unknown individual. Notes with the collection stated that one set of human remains had been removed from the Klamath Lake area in Oregon and the other from western Montana. It is not known which set of human remains was from which area. In 2001, the human remains were turned over to the Museum of Anthropology at Washington State University. No known individuals were identified. The two associated funerary objects include 1 metal cup and 1 lot of fabric. Cultural affiliation for these remains was based primarily on the geographical locations of removal. In addition, the character of the associated funerary objects is very similar to funerary objects often associated with historic Native American burials in the interior northwest.

Determinations Made by the Museum of Anthropology at Washington State University

Officials of the Museum of Anthropology at Washington State University have determined that:

• Pursuant to 25 U.S.C. 3001(9), the human remains described in this notice represent the physical remains of 2 individuals of Native American ancestry.

• Pursuant to 25 U.S.C. 3001(3)(A), the 2 objects described in this notice are reasonably believed to have been placed with or near individual human remains at the time of death or later as part of the death rite or ceremony.

• Pursuant to 25 U.S.C. 3001(2), there is a relationship of shared group identity that can be reasonably traced between the Native American human remains and associated funerary objects is to the Confederated Salish and Kootenai Tribes of the Flathead Reservation; Klamath Tribes; and the Pit River Tribe, California (includes XL Ranch, Big Bend, Likely, Lookout, Montgomery Creek and Roaring Creek Rancherias).

Additional Requestors and Disposition

Lineal descendants or representatives of any Indian tribe or Native Hawaiian organization not identified in this notice that wish to request transfer of control of these human remains and associated funerary objects should submit a written request with information in support of the request to Mary Collins, Museum of Anthropology at Washington State University Pullman, WA 99164-4910, telephone (509) 335-4314, by December 17, 2014. After that date, if no additional requestors have come forward, transfer of control of the human remains and associated funerary objects to the Confederated Salish and Kootenai Tribes of the Flathead Reservation; Klamath Tribes; and the Pit River Tribe, California (includes XL Ranch, Big Bend, Likely, Lookout, Montgomery Creek and Roaring Creek Rancherias) may proceed.

The Museum of Anthropology at Washington State University is responsible for notifying the Confederated Salish and Kootenai Tribes of the Flathead Reservation; Klamath Tribes; and the Pit River Tribe, California (includes XL Ranch, Big Bend, Likely, Lookout, Montgomery Creek and Roaring Creek Rancherias) that this notice has been published.

Dated: October 23, 2014.
Melanie O'Brien,
Acting Manager, National NAGPRA Program.

[FR Doc. 2014-27141 Filed 11-14-14; 8:45 am]

BILLING CODE 4312-50-P